Proclamation 9499 of September 16, 2016

Prescription Opioid and Heroin Epidemic Awareness Week, 2016

By the President of the United States of America

A Proclamation

Each year, more Americans die from drug overdoses than in traffic accidents, and more than three out of five of these deaths involve an opioid. Since 1999, the number of overdose deaths involving opioids, including prescription opioid pain relievers, heroin, and fentanyl, has nearly quadrupled. Many people who die from an overdose struggle with an opioid use disorder or other substance use disorder, and unfortunately misconceptions surrounding these disorders have contributed to harmful stigmas that prevent individuals from seeking evidence-based treatment. During Prescription Opioid and Heroin Epidemic Awareness Week, we pause to remember all those we have lost to opioid use disorder, we stand with the courageous individuals in recovery, and we recognize the importance of raising awareness of this epidemic.

Opioid use disorder, or addiction to prescription opioids or heroin, is a disease that touches too many of our communities—big and small, urban and rural—and devastates families, all while straining the capacity of law enforcement and the health care system. States and localities across our country, in collaboration with Federal and national partners, are working together to address this issue through innovative partnerships between public safety and public health professionals. The Federal Government is bolstering efforts to expand treatment and opioid abuse prevention activities, and we are working alongside law enforcement to help get more people into treatment instead of jail.

My Administration is steadfast in its commitment to reduce overdose deaths and get more Americans the help they need. That is why I continue to call on the Congress to provide $1.1 billion to expand access to treatment services for opioid use disorder. These new investments would build on the steps we have already taken to expand overdose prevention strategies, and increase access to naloxone—the overdose reversal drug that first responders and community members are using to save lives. We are also working to improve opioid prescribing practices and support targeted enforcement activities. Although Federal agencies will continue using all available tools to address opioid use disorder and overdose, the Congress must act quickly to help more individuals get the treatment they need—because the longer we go without congressional action on this funding, the more opportunities we miss to save lives.

Too often, we expect people struggling with substance use disorders to self-diagnose and seek treatment. And although we have made great strides in helping more Americans access care, far too many still lack appropriate, evidence-based treatment. This week, we reaffirm our commitment to raising awareness about this disease and supporting prevention and treatment programs. Let us ensure everyone with an opioid use disorder can embark on the road to recovery, and together, let us begin to turn the tide of this epidemic.

NOW, THEREFORE, I, BARACK OBAMA, President of the United States of America, by virtue of the authority vested in me by the Constitution and the laws of the United States, do hereby proclaim September 18 through September 24, 2016, as Prescription Opioid and Heroin Epidemic Awareness Week. I call upon all Americans to observe this week with appropriate programs, ceremonies, and activities that raise awareness about the prescription opioid and heroin epidemic.

IN WITNESS WHEREOF, I have hereunto set my hand this sixteenth day of September, in the year of our Lord two thousand sixteen, and of the Independence of the United States of America the two hundred and forty-first.

[FR Doc. 2016-22960

Filed 9-21-16; 8:45 am]

Billing code 3295-F6-P